DEPARTMENT OF THE INTERIOR

National Park Service

Draft Environmental Impact Statement/General Management Plan Minidoka Internment National Monument Jerome County, ID; Notice of Intent To Prepare an Environmental Impact Statement

SUMMARY: In accord with § 102(c) of the National Environmental Policy Act of 1969 (42 U.S.C. 4321, et seq.), the National Park Service is undertaking a conservation planning and environmental impact analysis process for the first General Management Plan (GMP) for the Minidoka Internment National Monument, Idaho. An Environmental Impact Statement (EIS) will be prepared concurrently with the GMP. The GMP is intended to set forth the basic management philosophy for this new unit of the National Park System and provide strategies for addressing issues and achieving identified management objectives for that unit, thus serving as a “blueprint” to guide management of natural and cultural resources and visitor use during the next 15-20 years. Development Concept Plans, which guide more detailed, site-specific preservation and development actions may be included with the GMP.

Background

The Minidoka Relocation Center (an area also known as Hunt) was authorized in August 1942 and operated by the War Relocation Authority until October 1945. The Center included over 33,000 acres of land with administrative and residential facilities. There were more than 600 buildings with a peak population of approximately 10,000 Japanese Americans from Washington State, Oregon, and Alaska. Established January 17, 2001, as the 385th unit of the National Park System, the purposes of Minidoka Internment National Monument, which is to be managed by the National Park Service, are to: (a) Protect the historic structures and objects of historic interest on 72.75 acres; and (b) Provide opportunities for public education and interpretation of the internment of Japanese Americans during World War II. This site is located approximately 25 northeast of Twin Falls, Idaho, surrounded by a rural, sparsely populated agricultural community. The site has many ground features that are the remnants of the camp, dominated by the basalt stone masonry foundations of the original entrance area.

Scoping Process

In preparing the EIS/GMP, the National Park Service (NPS) will formulate a range of alternatives to define distinct management strategies for the park, including visitor use and appreciation, and cultural and natural resource protection. Public comment is a key component of this conservation planning process, which will also include identification and evaluation of potential environmental impacts, and appropriate mitigation measures, of each alternative.

Some of the major issues we anticipate addressing in the Minidoka Internment National Monument EIS/GMP are:

—Interpretation and educational activities at the site;

—Educational and interpretation activities pertaining to the site in context with other related themes and sites;

—Natural and cultural resource management;

—Cultural resources research;

—Restoration and protection of the site and its historic structures;

—Park maintenance and sustainability;

—Public access to the Monument and on-site circulation;

—Development of the model visitor experience;

—The desired future conditions of the site;

—Park operations and administration;

—Identification and development of partnerships to effect NPS management strategies, including partnering with adjacent southern Idaho communities and organizations, the Japanese-American communities on the West Coast and throughout the Nation, and all other interested citizens in general; and

—Cooperation with other federal agencies, state, local and tribal governments.

Comments

All interested persons, organizations, agencies, and American Indian tribes wishing to express concerns or provide information about management issues which should be addressed in the upcoming conservation planning and environmental impact analysis process are encouraged to contact the Superintendent. Comments are also sought in regards to a suitable range of alternatives which should be considered in the EIS/GMP, the nature and extent of potential environmental impacts, and appropriate mitigating measures.

All comments received will become part of the public record. If individuals submitting comments request that their name or/and address be withheld from public disclosure, it will be honored to the extent allowable by law. Such requests must be stated prominently in the beginning of the comments. There also may be circumstances wherein the NPS will withhold a respondent's identity as allowable by law. As always, NPS will make available to public inspection all submissions from organizations or businesses and from persons identifying themselves as representatives or officials of organizations and businesses; and, anonymous comments may not be considered.

DATES: We anticipate holding public scoping meetings during the summer or early fall of 2002. Details will be announced widely in local and regional news media and via direct park mailings. All written comments regarding the preparation of the EIS/GMP must be postmarked not later than September 30, 2002, and these should be submitted directly to the Superintendent, Minidoka Internment National Monument, P.O. Box 570, 221 North State Street, Hagerman, Idaho 83332. Current information will be available at (208) 837-4793.

Decision

We expect the draft EIS/GMP to be available for public review during the fall of 2003, with the final document completed in the fall of 2004. Formal announcement of the availability of both documents will be published in the Federal Register, as well as publicized via local and regional media. The responsibility for approving the EIS/GMP has been delegated to the National Park Service, and the official responsible for the final decision is the Regional Director, Pacific West Region. Subsequently the official responsible for implementation of the GMP is the Superintendent, Minidoka Internment National Monument.

Dated: April 19, 2002.
P. Daniel Smith,
Acting Director, National Park Service.

[FR Doc. 02-10127 Filed 4-23-02; 8:45 am]

BILLING CODE 4310-70-P